DEPARTMENT OF TRANSPORTATION

Federal Railroad Administration

[Docket Number FRA-2015-0019]

Petition for Waiver of Compliance

In accordance with part 211 of Title 49 Code of Federal Regulations (CFR), this provides the public notice that by a document dated May 23, 2016, Norfolk Southern Corporation (NS) requested that the Federal Railroad Administration's (FRA) Railroad Safety Board (Board) amend NS' existing waiver to allow an expansion of the territory for its nonstop continuous rail testing process in Docket Number FRA-2015-0019. The projected start date to implement testing on the additional territory would be July 1, 2016, and would continue for a period up to July 1, 2018. The original waiver, granted by FRA's decision letter dated July 8, 2015, allowed NS to perform the continuous nonstop rail testing process on various main track segments in the Dearborn, Lake, Pittsburgh, and Harrisburg Divisions.

In a decision letter dated March 21, 2016, FRA granted NS' request to expand its continuous nonstop rail testing program to additional trackage in the Central Georgia, Dearborn, and Lake Divisions.

In the current request, NS seeks permission to expand the continuous nonstop testing to additional territory under the existing waiver conditions. Specifically, the additional territory is:

Alabama Division: Memphis District (Chattanooga, TN, to Memphis, TN, MP 279.83 A-551.7 A, Tracks 1 and 2); AGS District (Chattanooga, TN, to Meridian, MS, MP 0.0-295.44, Tracks 1 and 2); NO&NE District (Meridian, MS, to New Orleans, LA, MP NO 0.35-195.92, Tracks 1 and 2); East End District (Atlanta, GA, to Birmingham, AL, MP 650.00-798.36, Tracks 1 and 2). Central Division: Knoxville District (Bristol, TN, to Ooltewah, TN, MP 0.00 A-235.07 A, Tracks 1 and 2); Knoxville District (Knoxville, TN, to Harriman, TN, MP 0.00 CO-51.3 D, Tracks 1 and 2); Louisville District (Louisville, KY, to Danville, KY, MP 268.3 W-357.65 W, Tracks 1 and 2). Dearborn Division: Detroit Line (Gibralter, OH, to Lasalle, OH, MP HK 20.00-HK 40.00); Detroit Line (Blaha, MI, to Swan Creek, OH, MP DR 20.00-DR 57.70, Tracks 1 and 2). Georgia Division: Atlanta South District (Atlanta, GA to Macon, GA, MP 158.80 H to MP 240.40 H, Tracks 1 and 2); Macon/Valdosta District (Macon, GA, to Jacksonville, FL, MP 0.00 G to MP 260.56 G, Tracks 1 and 2). Harrisburg Division: Reading/Harrisburg Line (Belt, PA, to Titus, PA, MP AF 5.60 to AF 13.00, Tracks 1 and 2); Lehigh Line (Bethlehem, PA, to Lehighton, PA, MP LB 84.00 to LB 114.70); Lehigh Line (Manville, PA, to Bethlehem, PA, MP LE 35.80 to LE 88.90, Tracks 1 and 2); Lurgan Branch (Capital, PA, to Town, PA, MP LG 0.00 to HW 73.70, Tracks 1 and 2); Reading Line (Blandon, PA, to Allentown, PA, MP RV 7.50 to RV 36.30, Tracks 1 and 2); Reading Line (Blandon, PA, to Belt, PA, MP TK 0.00 to TK 5.40, Tracks 1 and 2); Reading Line (Tulp, PA, to Wyomissing, PA, MP TW 8.40 to TW 9.40). Illinois Division: Lafayette District (Peru, IN, to Decatur, IL, MP D 204.53 to D 375.59, Tracks 1 and 2); Brooklyn District (Decatur, IL, to East St. Louis, IL, MP D 375.59 to D 485.00, Tracks 1 and 2); Springfield/Hannibal District (Decatur, IL, to Moberly, MO, MP DH 376.50 to MP H 69.85); St. Louis/Kansas City District (St. Louis, MO, to Kansas City, MO, MP S 3.00 to S 274.83, Tracks 1 and 2); Southern East/West District (East St. Louis, IL, to New Albany, IN, MP 3.28 W to 268.30 W). Lake Division: Dayton District (Columbus, OH, to Sharonville, OH, MP CJ 134.40 to CJ 255.10, Tracks 1 and 2); Huntington District (Butler, IN, to Peru, IN, MP D 114.10 to D 204.53, Tracks 1 and 2); Marion District (Goshen, IN, to Anderson, IN, MP 0.00 to MP 110.98); Kenova/Columbus District (Williamson, WV, to Columbus, OH, MP N 470.00 to N 704.50, Tracks 1 and 2); Sandusky District (Columbus, OH, to Flat Rock, OH, MP S 1.00 to S 96.00, Tracks 1 and 2); Frankfort District (Muncie, IN, to Lafayette, IN, MP SP 173.70 to SP 259.00). Piedmont Division: Washington District (Manassas, VA, to Front Royal, VA, MP B 0.00 to B 51.00); Washington/Danville/Charlotte/Greenville District (Alexandria, VA, to Atlanta, GA, MP 9.25 to 635.21, Tracks 1 and 2). Pittsburgh Division: Cleveland Line (Rochester, OH, to Alliance, OH, MP RD 0.00 to RD 67.00, Tracks 1 and 2). Pocahontas Division: Hagerstown/Roanoke District (Hagerstown, MD, to Roanoke, VA, MP H 0.63 to H 239.28, Tracks 1 and 2); Norfolk/Blue Ridge/Christiansburg/Pocahontas District (Norfolk, VA, to Williamson, WV, MP N 1.23 to N 470.00, Tracks 1 and 2); Pulaski District (Walton, VA, to Bristol, VA, MP NB 297.63 to NB 408.38, Tracks 1 and 2); Altavista/Whitethorne District (Abilene, VA, to Roanoke, VA, MP V 141.39 to V 316.86).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2015-0019) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by October 3, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on August 12, 2016.
Karl Alexy,
Director, Office of Safety Analysis.

[FR Doc. 2016-19654 Filed 8-16-16; 8:45 am]

BILLING CODE 4910-06-P